DEPARTMENT OF AGRICULTURE

Rural Housing Service

Multi-Family Housing Program 2011 Industry Forums—Open Teleconference and/or Web Conference Meetings

AGENCY: Rural Housing Service, USDA.

ACTION: Notice.

SUMMARY: This Notice announces a series of teleconference and/or Web conference meetings regarding the USDA Multi-Family Housing Program. The teleconference and/or Web conference meetings will be scheduled on a quarterly basis, but may be held monthly at the Agency's discretion. Teleconference and/or Web conference meetings are scheduled to occur during the months of January, April, July, and October of 2011. This Notice also outlines suggested discussion topics for the meetings and is intended to notify the general public of their opportunity to participate in the teleconference and/or Web conference meetings.

DATES: The dates and times for the teleconference and/or Web conference meetings will be announced via e-mail to parties registered as described below.

FOR FURTHER INFORMATION CONTACT: Any member of the public wishing to register for the meetings and obtain the call-in number, access code, Web link and other information for any of the public teleconference and/or Web conference meetings may contact Sandra Mercier, Financial and Loan Analyst, Multifamily Housing Operations and Asset Management Division, telephone: (202) 720-1617, fax: (202) 720-0302, or e-mail: Sandra.mercier@wdc.usda.gov. Those who request registration less than 15 calendar days prior to the date of a teleconference may not receive notice of that teleconference, but will receive notices of future teleconferences. The Agency expects to accommodate each participant's preferred form of participation by telephone or via web link. However, if it appears that existing capabilities may prevent the Agency from accommodating all requests for one form of participation, each participant will be notified and encouraged to consider an alternative form of participation.

SUPPLEMENTARY INFORMATION: The objectives of this series of informational teleconferences are as follows:

• Enhance the effectiveness of the Multi-Family Housing Program.

• Enhance RHS' awareness of issues that impact the Multi-Family Housing Program.

• Increase transparency and accountability in the Multi-Family Housing Program.

Topics to be discussed could include but will not be limited to the following:

• Updates on USDA Multi-Family Housing Program activities.

• Feedback from participants on the Multi-Family Notice of Funds Availability processes.

• Comments on Section 514/516 and Section 515 transaction processes.

• Comments on particular servicing-related activities of interest at that time.

Dated: December 15, 2010.
Tammye Treviño,
Administrator, Rural Housing Service.

[FR Doc. 2010-32238 Filed 12-22-10; 8:45 am]

BILLING CODE 3410-XV-P